ENVIRONMENTAL PROTECTION AGENCY

[FRL-7116-8]

Proposed CERCLA 122(h) Administrative Agreement for Recovery of Past Costs for the Ramapo Landfill Superfund Site, Town of Ramapo, Rockland County, NY

AGENCY: Environmental Protection Agency.

ACTION: Notice; request for public comment.

SUMMARY: In accordance with section 122(i) of the Comprehensive Environmental Response, Compensation, and Liability Act of 1980, as amended (“CERCLA”), 42 U.S.C. 9622(i), notice is hereby given by the U.S. Environmental Protection Agency (“EPA”), Region II, of a proposed administrative agreement pursuant to Section 122(h) of CERCLA, 42 U.S.C. 9622(h), for recovery of past response costs concerning the Ramapo Landfill Superfund Site (“Site”) located in the Town of Ramapo, Rockland County, New York, with the following settling parties: Allied Waste Systems, Inc. (for itself and as alleged successor to Valley Carting Corp.); American Home Products Corporation; Avon Products, Inc.; Beazer East, Inc. (formerly known as Koppers Industries, Inc.); Ford Motor Company; Carmine Franco; Good Samaritan Hospital; International Business Machines Corporation; International Paper Company; Lederle Laboratories, Inc.; Nepera, Inc.; Orange and Rockland Utilities, Inc.; Pneumo Abex Corporation; Ramapo Land Co., Inc.; and Waste Management of New York LLC (as alleged successor to Marangi Brothers, Inc.). The settlement requires the settling parties jointly and severally to pay $222,180.84 in reimbursement of EPA's past costs at the Site. The settlement includes a covenant not to sue the settling parties pursuant to section 107(a) of CERCLA, 42 U.S.C. 9607(a), in exchange for their payment of monies. For thirty (30) days following the date of publication of this notice, EPA will receive written comments relating to the settlement. EPA will consider all comments received and may modify or withdraw its consent to the settlement if comments received disclose facts or considerations that indicate that the proposed settlement is inappropriate, improper or inadequate.EPA's response to any comments received will be available for public inspection at EPA Region II, 290 Broadway, New York, New York 10007-1866.

DATES: Comments must be submitted on or before January 10, 2002.

ADDRESSES: The proposed settlement is available for public inspection at EPA Region II offices at 290 Broadway, New York, New York 10007-1866. Comments should reference the Ramapo Landfill Superfund Site located in the Town of Ramapo, Rockland County, New York, Index No. CERCLA-02-2002-2005. To request a copy of the proposed settlement agreement, please contact the individual identified below.

FOR FURTHER INFORMATION CONTACT: Michael A. Mintzer, Assistant Regional Counsel, New York/Caribbean Superfund Branch, Office of Regional Counsel, U.S. Environmental Protection Agency, 17th Floor, 290 Broadway, New York, New York 10007-1866. Telephone: 212-637-3168.

Dated: November 27, 2001.
William J. Muszynski,
Acting Regional Administrator, Region II.

[FR Doc. 01-30590 Filed 12-10-01; 8:45 am]

BILLING CODE 6560-50-P